DEPARTMENT OF THE INTERIOR

Bureau of Land Management

[LLCAD05000, L51010000.LVRWB11B4520.FX0000]

Notice of Intent To Prepare a Joint Environmental Impact Statement and Environmental Impact Report for the Proposed Alta East Wind Project, and Possible Land Use Plan Amendment, Kern County, CA

AGENCY: Bureau of Land Management, Interior.

ACTION: Notice of Intent.

SUMMARY: In compliance with the National Environmental Policy Act of 1969, as amended (NEPA), the Federal Land Policy and Management Act of 1976, as amended (FLPMA), and the California Environmental Quality Act, the Bureau of Land Management (BLM) Ridgecrest Field Office, Ridgecrest, California, together with the County of Kern, California, intend to prepare a joint Environmental Impact Statement (EIS)/Environmental Impact Report (EIR), which may include an amendment to the California Desert Conservation Area (CDCA) Plan (1980 as amended), related to Alta Windpower Development LLC's (Applicant or AWD) right-of-way (ROW) authorization request for the Alta East Wind Project (Project), a 300-megawatt (MW) wind farm. By this notice BLM and Kern County are announcing the beginning of the scoping process to identify issues and solicit public comments on the EIS/EIR and proposed plan amendment. By this notice the BLM is also segregating, subject to valid existing rights, approximately 2,083 acres of public lands from appropriation under the public land laws, including the Mining Law of 1872, as amended, but not from leasing under the mineral leasing laws or disposal under the mineral material laws, for a period of 2 years from the date of publication of this notice for the purpose of processing AWD's ROW authorization request.

DATES: This notice initiates: (1) The public scoping process for the EIS/EIR and possible plan amendment; and (2) the 2 year segregation period for the public lands within the AWD ROW application area. Comments on issues related to the EIS and possible plan amendment may be submitted in writing until August 15, 2011. The date(s) and location(s) of any scoping meetings will be announced at least 15 days in advance through local media, newspapers, and the BLM Web site at: http://www.blm.gov/ca/st/en/fo/cdd.html. In order to be fully addressed in the Draft EIS/EIR, all comments must be received prior to the close of the scoping period or 15 days after the last public meeting, whichever is later. We will provide additional opportunities for public participation upon publication of the Draft EIS/EIR. The segregation of the public lands is effective as of July 15, 2011. The segregation will terminate if one of the following events occurs: (1) The BLM issues a decision granting, granting with modifications, or denying AWD's ROW authorization request; (2) publication of a Federal Register notice terminating this segregation; or (3) no further administrative action occurs before the end of this segregation on July 15, 2013.

ADDRESSES: You may submit comments on issues and alternatives related to the Alta East Wind Project Draft EIS/EIR and CDCA Plan amendment by any of the following methods:

• Web site: http://www.blm.gov/ca/st/en/fo/cdd.html.

• E-mail: altaeast@blm.gov.

• Fax: (951) 697-5299.

• Mail: ATTN: Jeffery Childers, Project Manager, BLM California Desert District Office, 22835 Calle San Juan de Los Lagos, Moreno Valley, California 92553-9046.

Documents pertinent to this proposal may be examined at the BLM California Desert District Office.

FOR FURTHER INFORMATION CONTACT: For further information and/or to have your name added to our mailing list, contact Jeffery Childers; telephone (951) 697-5308; address BLM California Desert District Office, 22835 Calle San Juan de Los Lagos, Moreno Valley, California 92553-9046; e-mail jchilders@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: AWD has requested a ROW authorization to construct, operate, maintain, and decommission the 300-MW Alta East Project. The Project is proposed to be located on approximately 3,200 acres on the north and south sides of State Route 58 in southeastern Kern County, California. The proposed Project area is approximately 3 miles northwest of the Town of Mojave and approximately 11 miles east of the City of Tehachapi. The project would include wind turbines, access roads, and energy collection lines on 3,200 acres, of which 2,083 acres are on public land under the jurisdiction of the BLM and 1,117 acres of private land under the jurisdiction of Kern County. Approximately 681 acres would need to be re-zoned to be consistent with the Kern County Zoning Ordinance Wind Energy (WE) Combining District. The purpose of the public scoping process is to determine relevant issues that will influence the scope of the environmental analysis, including alternatives, and guide the process for developing the Draft EIS/EIR and CDCA Plan amendment. At present, the BLM has identified the following preliminary issues: Air quality and greenhouse gas emissions, biological resources including special status species, cultural resources, geology and soils, hazards and hazardous materials, hydrology and water quality, land use, noise, recreation, traffic, visual resources, lands with wilderness characteristics, cumulative effects, and areas with high potential for renewable energy development. Pursuant to the CDCA Plan, sites associated with power generation or transmission not identified in the CDCA Plan will be considered through the plan amendment process to determine the suitability of the sites for renewable energy development. Since the proposed Project site was not previously identified as suitable, authorization of the Project will require amendment of the CDCA Plan. By this notice, the BLM is complying with requirements in 43 CFR 1610.2(c) to notify the public of potential amendments to land use plans predicated on the findings in the EIS/EIR. If a land use plan amendment is necessary, the BLM will integrate the land use planning process with the NEPA process for the project. A preliminary list of the potential planning criteria that will be used to help guide and define the scope of the plan amendment process include:

• The plan amendments will be completed in compliance with the FLPMA, NEPA, and all other relevant Federal laws, executive orders, and BLM policies;

• Existing, valid plan decisions will not be changed and any new plan decisions will not conflict with existing plan decisions; and

• The plan amendment(s) will recognize valid existing rights.

The BLM will also use and coordinate the NEPA commenting process to satisfy the public involvement process for Section 106 of the National Historic Preservation Act (16 U.S.C. 470(f) as provided for in 36 CFR 800.2(d)(3). Native American tribal consultations will be conducted in accordance with policy and tribal concerns will be given due consideration, including impacts on Indian trust assets. Federal, State, and local agencies, along with tribes and other stakeholders that may be interested in or affected by the BLM's decision on this project, are invited to participate in the scoping process and, if eligible, may request or be requested by the BLM to participate in the development of the environmental analysis as a cooperating agency.

In connection with its processing of AWD's application, the BLM is also segregating, under the authority contained in 43 CFR 2091.3-1(e) and 43 CFR 2804.25(e), subject to valid existing rights, the public lands within the Project application area from appropriation under the public land laws including the Mining Law of 1872, as amended, but not the Mineral Leasing or the Material Sales Acts, for a period of 2 years from the date of publication of this notice. The public lands contained within this temporary segregation total approximately 2,083 acres and are described as follows:

Mount Diablo Meridian

T. 32 S., R. 35 E.,

Sec. 26, SW¼ and W½SE¼;

Secs. 28, 32, and 34; and

San Bernardino Meridian

T. 12 N., R. 13 W.,

sec. 34.

The areas described aggregate approximately 2,083 acres in Kern County.

The BLM has determined that this temporary segregation is necessary to ensure the orderly administration of the public lands by maintaining the status quo while it processes AWD's ROW application for the above described lands. The temporary segregation period will terminate and the lands will automatically reopen to appropriation under the public land laws, including the Mining Law, if one of the following events occurs: (1) The BLM issues a decision granting, granting with modifications, or denying AWD's ROW authorization request; (2) Publication in the Federal Register of a notice terminating this segregation; or (3) No further administrative action occurs at the end of this segregation. Any segregation made under this authority is effective only for a period of up to 2 years.

Before including your address, phone number, e-mail address, or other personal identifying information in your comment, you should be aware that your entire comment—including your personal identifying information—may be made publicly available at any time. While you can ask us in your comment to withhold your personal identifying information from public review, we cannot guarantee that we will be able to do so.

Authority: 40 CFR 1501.7; 43 CFR 1610.2, 2091.3-1(e), and 2804.25(e)).

Thomas Pogacnik,
Deputy State Director, California.

[FR Doc. 2011-17717 Filed 7-14-11; 8:45 am]

BILLING CODE 4310-40-P